DEPARTMENT OF THE INTERIOR

National Park Service

National Register of Historic Places; Notification of Pending Nominations

Nominations for the following properties being considered for listing in the National Register were received by the National Park Service before November 15, 2003. Pursuant to § 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington, DC 20005; or by fax, 202-371-6447. Written or faxed comments should be submitted by December 17, 2003.

Patrick W. Andrus,
Acting Keeper of the National Register of Historic Places.

Florida

Duval County

Lynch Building (Downtown Jacksonville MPS), 11 Forsyth St., Jacksonville, 03001310

Union County

Lake Butler Woman's Club, (Clubhouses of Florida's Woman's Clubs MPS) 285 NE. First Ave., Lake Butler, 03001309

Hawaii

Hawaii County

Guard, Thomas, House, 240 Kaiulani St., Hilo, 03001311

Indiana

Carroll County

Camden Masonic Temple, 213 W. Main St., Camden, 03001313

Carroll County Courthouse, 101 W. Main St., Delphi, 03001317

Dearborn County

Major, Daniel S., House, 761 W. Eads Pkwy., Lawrenceburg, 03001320

Elkhart County

Nappaness Eastside Historic District, Roughly bounded by Market, Main, John and Summit Sts., Nappanee, 03001321

Grant County

Gas City High School (Indiana's Public Common and High Schools MPS) 400 East South A St., Gas City, 03001316

Jasper County

Remington Water Tower and Town Hall, 3 E. Michigan St., Remington, 03001314

Montgomery County

Steele, T.C., Boyhoos Home, 110 S. Cross St., Waveland, 03001318

Noble County

Kendallville Downtown Historic District, Roughly bounded by Harris and Rush Sts., the alleys E and W of Main, Kenallville, 03001315

Posey County

Elliott, James, Farm, Church St.—IN 66, New Harmony, 03001312

Wayne County

Old Richmond Historic District (Boundary Increase and Decrease), Roughly bounded by A, 11th E Sts., and the C & O Railroad tracks, Richmond, 03001319

Maryland

Baltimore Independent City

Baltimore Gas and Electric Company Building, 39 W. Lexington St., Baltimore (Independent City), 03001325

Cedarcroft Historic District, Bounded by Gittings Ave., York Rd., E. Lake Ave. and Bellona Ave., Baltimore (Independent City), 03001332

Equitable Gas Works, 1401 Severn St., Baltimore (Independent City), 03001322

Federal Hill South Historic District, Roughly bounded by Cross St., Olive St., Marshall St., Ostend St., Fort Ave. and Covington St., Baltimore (Independent City), 03001331

Lake—Evesham Historic District, Roughly bounded by East Lake Ave., York Rd, Evesham Ave., and Bellona Ave. Baltimore (Independent City), 03001323

Radnor—Winston Historic District, Roughly bounded by Notre Dame Ln., College of Notre Damem Radnor Ave. and York Rd., Baltimore (Independent City), 03001327

Woodberry Historic District, Roughly Clipper Ave, Druid Park Dr., Girard, Hooper, Keystone, Malden, Parkdale and Rockrose Aves., Baltimore (Independent City), 03001326

Frederick County

Middletown Historic District, Including E and W Main St., Green St., Washington St., Jefferson St., Church St., and Walnut St., Middletown, 03001334

St. Mary's County

Abell House, 22530 Washington St., MD 326, Leonardtown, 03001324

All Faith Church, 38885 New Market Turner Rd., Charlotte Hall, 03001328

Washington County

Donnelly, Daniel, House, 14906 Falling Waters Rd., Williamsport, 03001333

Minnesota

Freeborn County

Albert Lea Commercial Historic District (Boundary Increase and Decrease), Broadway Ave. bet. Water and Pearl Sts., Albert Lea, 03001337

Hennepin County

Calhoun Beach Club, 2730 W. Lake St., Minneapolis, 03001335

Station 13 Minneapolis Fire Department, 4201 Cedar Ave. S, Minneapolis, 03001340

Nobles County

Dayton, George D., House, 1311 4th Ave., Worthington, 03001336

Montana

Cascade County

First United Methodist Church Parsonage, 113 Sixth St., N., Great Falls, 03001329

Lewis and Clark County

Helena Railroad Depot Historic District, Roughly bounded by Railroad/Helena Aves., Gallatin St., N. Sanders St. and N. Harris St., Helena, 03001330

Nebraska

Lancaster County

Stuart Building, 13th and P Sts., Lincoln, 03001341

Ohio

Franklin County

Cambridge Arms Apartment (East Broad Street MRA), 5926 W. Broad St., Columbus, 03001338

Tennessee

Williamson County

Craig—Beasley House, 503 Boyd Mill Ave., Franklin, 03001342

Washington

Spokane County

Turner, Luther P. and Jane Marie, House, E. 1521 Illinois Ave, Spokane, 03001343

Williams, James and Corinne, House, 1225 W. 19th Ave., Spokane, 03001344

Wyoming

Lincoln County

Haddenham Cabin, Fossil Butte National Monument, Kemmerer, 03001339

Park County

Grand Loop Road Historic District, Grand Loop Rd., Yellowstone National Park, 03001345

A request for removal has been made for the following resource:

Minnesota

Pope County

Lakeside Pavilion, S. Lakeshore Dr. and First Ave., SW., Glenwood, 98001444

[FR Doc. 03-29877 Filed 12-1-03; 8:45 am]

BILLING CODE 4312-51-P